Presidential Determination No. 2000-28 of August 22, 2000

Presidential Determination on Waiver of Certification Under Section 3201 “Conditions on Assistance for Colombia,”

in Title III, Chapter 2 of the Emergency Supplemental Act, FY 2000, as Enacted in Public Law 106-246

Memorandum for the Secretary of State

Pursuant to the authority vested in me by section 3201(a)(4) of the FY 2000 Emergency Supplemental Act (the “Act”), I hereby determine that it is in the national security interest of the United States to furnish assistance made available under the Act to the Government of Colombia without regard to the following provisions of section 3201 of that Act:

(a)(1)(A)(ii) the Commander General of the Colombian Armed Forces is promptly suspending from duty any Colombian Armed Forces personnel who are credibly alleged to have committed gross violations of human rights or to have aided or abetted paramilitary groups;

(a)(1)(A)(iii) the Colombian Armed Forces and its Commander General are fully complying with section 3201 (a)(1)(A)(i) and (ii) of the Act;

(a)(1)(B) the Colombian Armed Forces are cooperating fully with civilian authorities in investigating, prosecuting, and punishing in the civilian courts Colombian Armed Forces personnel who are credibly alleged to have committed gross violations of human rights;

(a)(1)(C) the Government of Colombia is vigorously prosecuting in the civilian courts the leaders and members of paramilitary groups and Colombian Armed Forces personnel who are aiding or abetting these groups;

(a)(1)(D) the Government of Colombia has agreed to and is implementing a strategy to eliminate Colombia's total coca and opium poppy production by 2005 through a mix of alternative development programs; manual eradication; aerial spraying of chemical herbicides; tested, environmentally safe mycoherbicides; and the destruction of illicit narcotics laboratories on Colombian territory; and

(a)(1)(E) the Colombian Armed Forces are developing and deploying in their field units a Judge Advocate General Corps to investigate Colombian Armed Forces personnel for misconduct.

I have attached a Memorandum of Justification for the decision to waive the foregoing certifications.

You are hereby authorized and directed to report this waiver to the appropriate Committees of the Congress and to arrange for its publication in the Federal Register.

wj

THE WHITE HOUSE,

Washington, August 22, 2000.

[FR Doc. 00-22209

Filed 8-28-00; 8:45 am]

Billing code 4710-10-M